DEPARTMENT OF TRANSPORTATION

Federal Aviation Administration

14 CFR Part 39

[Docket No. FAA-2009-0452; Directorate Identifier 2007-NM-326-AD; Amendment 39-16223; AD 2010-05-13]

RIN 2120-AA64

Airworthiness Directives; The Boeing Company Model 737-100, -200, -200C, -300, -400, and -500 Series Airplanes

Correction

In rule document 2010-4511 beginning on page 10658 in the issue of Tuesday, March 9, 2010, make the following correction:

On page 10660, in the table, under the heading “Number of U.S.-registered airplanes”, the second entry “87” should read “787”.

[FR Doc. C1-2010-4511 Filed 3-18-10; 8:45 am]

BILLING CODE 1505-01-D